DEPARTMENT OF JUSTICE

Bureau of Prisons

Notice of Availability and Publication of the Final Environmental Impact Statement

The Federal Bureau of Prisons announces the publication of a Final Environmental Impact Statement (FEIS) regarding a proposed medium-security federal correctional facility in South Carolina.

Two preferred alternative locations are named in the document: the “Salters Site” in Williamsburg County and the “Bennettsville Site” in Marlboro County.

The document is being made available to provide for timely public comment and understanding of federal plans and programs with possible environmental consequences as required by the National Environmental Policy Act of 1969, as amended.

The purpose of the document is to afford the public and local officials an opportunity to learn of the Bureau's proposed planning, construction, and operation of a federal correctional institution near the communities of Salters and/or Bennettsville, South Carolina. The document is available at local libraries or a copy of the FEIS can be obtained by contacting the Bureau of Prisons.

Interested persons are encouraged to express their views and comments on the FEIS by submitting written comments to the Bureau of Prisons.

Items addressed in the FEIS include, but are not limited to: utilities, traffic, noise, cultural resources and socio-economic impacts.

Written statements will be accepted until May 22, 2000.

Written comments may be directed to: David J. Dorworth, Chief, Site Selection and Environmental Review Branch, Federal Bureau of Prisons, 320 First Street, NW, Washington, D.C. 20534, Telephone (202) 514-6470, Telefacsimile (202) 616-6024 ddorworth@bop.gov

Dated: March 29, 2000.
David J. Dorworth,
Chief, Site Selection and Environmental Review Branch.

[FR Doc. 00-8119 Filed 4-20-00; 8:45 am]

BILLING CODE 4110-05-U